DEPARTMENT OF JUSTICE

Notice of Lodging of Consent Decree Under Clean Water Act

In accordance with Departmental policy, 28 CFR 50.7, notice is hereby given that a proposed consent decree in United States v. Monongahela Power Company, Inc. (d/b/a Allegheny Power), C.A. No. 1 1:01-CV-6, was lodged on November 9, 2001, with the United States District Court for the Northern District of West Virginia. The consent decree resolves the United States' claims against the defendant, pursuant to the Federal Water Pollution Control Act, also known as the Clean Water Act, 33 U.S. C. 1251-1387, as amended by the Oil Pollution Act of 1990, Pub. L. 101-380 (“CWA”), and 40 CFR 112.4. Specifically, the consent decree resolves the United States' claim against the defendant for violating Sections 301 and 311 of the CWA, 33 U.S.C. 1311, 1321, with respect to an oil spill that occurred at the defendant's Belmont Substation, located in Pleasants County, West Virginia. Further, the consent decree resolves the United States' claim against defendant for failing to submit a copy of its Spill Prevention Control and Countermeasures (“SPCC”) Plan to the Environmental Protection Agency within 60 days after the spill, as required by 40 CFR 112.4.

Under the consent decree, the defendant will pay a total civil penalty in the amount of $252,000 to resolve the violations with respect the discharge and failure to submit its SPCC Plan in a timely manner. In addition, the defendant has agreed to implement agreed-upon injunctive relief measures, which include, inter alia, replacement of the transformer that failed and caused the discharge, upgrading containment around certain transformers at the Substation, and adding additional equipment at the Substation that will aid in addressing any future spills. The civil penalty is due to be paid within thirty (30) days after entry of the consent decree by the Court.

The Department of Justice will receive, for a period of thirty (30) days from the date of this publication, comments relating to the proposed consent decree. Comments should be addressed to the Acting Assistant Attorney General for the Environment and Natural Resources Division, Department of Justice, Washington, DC 20530, and should refer to United States v. Monongahela Power Company, Inc. and DOJ Reference No. 90-5-1-1-06477. The comments should be faxed, not mailed, to the Acting Assistant Attorney General at 202/616-6583. Alternatively, the comments may be mailed to the Office of the United States Attorney, ATTN: Patrick M. Flatley, 1100 Main Street, Suite 200, Wheeling, West Virginia 26003.

The proposed consent decree may be examined at the Office of the United States Attorney, 1100 Main Street, Suite 200, Wheeling, West Virginia 26003; and the Region III Office of the Environmental Protection Agency, 1650 Arch Street, Philadelphia, Pennsylvania 19103. A copy of the proposed decree may be obtained by mail from the Department of Justice Consent Decree Library, P.O. Box 7611, Washington, DC 20044. In requesting a copy, please refer to the referenced case and enclose a check in the amount of $10.50 (.25 cents per page production costs), payable to the Consent Decree Library.

Robert D. Brook,
Assistant Chief, Environmental Enforcement Section, Environment and Natural Resources Division.

[FR Doc. 01-31787 Filed 12-26-01; 8:45 am]

BILLING CODE 4410-15-M